DEPARTMENT OF DEFENSE

Office of the Secretary

Meeting of the President's Commission on Care for America's Returning Wounded Warriors

AGENCY: Department of Defense.

ACTION: Federal Advisory Committee Meeting Notice.

SUMMARY: Pursuant to the Federal Advisory Committee Act of 1972 (5 U.S.C., Appendix, as amended), the Sunshine in the Government Act of 1976 (5 U.S.C. 552b, as amended) and 41 Code of Federal Regulations (CFR) 102-3.140 through 160, the Department of Defense announces the forthcoming public meeting:

Name of Commission: President's Commission on Care for America's Returning Wounded Warriors (hereafter referred to as the Commission).

Date of Meeting: June 18, 2007.

Time of Meeting: 10 a.m. to (To Be Determined).

Place of Meeting: Ronald Reagan Building and International Trade Center 1300 Pennsylvania Avenue, NW., Washington, DC 20004.

Purpose of Meeting: To obtain, review, and evaluate information related to the Commission's mission to examine the care provided to wounded service members. The Commission will receivE briefings on topics relating to the care and rehabilitation of wounded service members.

Agenda: 9 a.m. to 9:45 a.m. Administrative Work Meeting (Not Open to the Public). 10 a.m.—(Public Session).

Presentations (May Vary)

Panel of Wounded Soldiers and Caretakers,

Department of Veteran Affairs Family Outreach and Programs for the Families of Wounded Warriors,

Private Sector Resources for Families,

Faith Based Resources for Families,

Department of Defense Family Outreach and Programs for the Families of Wounded Warriors),

Sub Committee Site Visit Reviews for Chicago and San Diego Public Comment.

Subject to the availability of seating, this meeting is open to the public.

Interested persons or organizations may submit written statements for consideration by the Commission at any time or in response to the stated agenda of a planned meeting. Persons desiring to make an oral presentation or submit a written statement to the Commission for the 18 June 2007 meeting must notify the point of contact listed below no later than 13 June 2007.

Oral presentations by members of the public will be permitted only on 18 June at 1 to 1:30 before the full Commission. Presentations will be limited to 5 minutes. The Executive Director and the Designated Federal Official will select individuals for oral presentations and notify them in advance of the opportunity to make a 5 minute presentation to the Commission.

The Number of oral presentations to be made will depend on the number of requests received from members of the public. Each person desiring to make an oral presentation must provide the point of contact listed below with one (1) copy of the presentation by 13 June, 2007, 5 p.m. and one copy of any material that is intended for distribution at the meeting.

Persons submitting a written statement must submit one copy of the statement to the Commission staff by 13 June, 2007, 5 p.m.

Point of Contact is Denise Dailey, Teresa Barnes, or Leslie Smith, toll free 877-588-2035 or Fax statements (703) 588-2046.

For Further Information On Submitting Statements Contact: Denise Dailey, Teresa Barnes or Leslie Smith, toll free 877-588-2035 or Fax statements (703) 588-2046.

Dated: May 23, 2007
C.R. Choate,
Alternate OSD Federal Register Liaison Officer, Department of Defense.

[FR Doc. 07-2658 Filed 5-29-07; 8:45 am]

BILLING CODE 5007-06-M